DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending March 31, 2007.

Last name | First name | Middle name/initials
Hansen | Karen | Fargh
Merswolke-Fay | Leslye |
O'Brien II | Andrew | Gordon S.
Kvaal | Leif | Christian
Yiu | Joseph | Tin-Chong
Lau | Joseph | Si-Sing
Booth | Patricia | Wood
Youn | Kenny |
Chen | Annie | A Y
Ho | Laura | M
Hsu | Joyce | I-Yin
MacDonald | William | Russell
Boccaccio | John | Pierre
Suen | David | Toi Wai
Au | Jason | O
Stuart | Samantha |
Tien | Calvin | Thomas
Thompson | Tanja |
Maresh | Lothar | Werner
Yeung | Cecilia | Dip Yee
Yeung | Solomon | To Ling
Tsui | Kwok | Fung D
Wu | Nancy | Bing Yun
Huston | Richard | John
Al-Refai | Majid | Badir
Bustin | Andrew | Joseph
Sung | Chiang |
Palladino Sandstro | Christine | M
Parvin-Boulle | Nathalie | A
Ognjanovich | Frances | Maria
Perry | Lloyd | C
Hirsch | Steven | Richard
Fraser | Lucy |
Banks | Alistair | Glover
Huebner | Annelese |
Sarasin | Esme | Forester
Stuesser-Simpson | Annette | Desiree
Tavolato | Paolo | Allessandro
Cheng | David | Mui-Wen
Ruane | John | P
Chan | Sum | Chu Lee
Bahremand | Ramin |
Penman | Jeffrey | D
Bucchieri | John | Paul
Peake | Russell | V
Law | Ka | Lok
Lam | Edward | Sung-Lai
Burnley | Roger | Leon
Kennedy-Fagin | Gail |
Racine | Helene |
Stevens | Andrew | David
Lee | Kevin | Carlim
Akhavan | Majid | Reza
Leksas | Janne | Helen
Ying | Claudine | Lauren
Endelman | Martin | Phillip
Conner | Charles | M
Dambrosio | Claudia |
Kendzior | Peter |
Chiu | Shirley | Lai Ling
Ellis | Anja | Alexandra
Penman | Anne | V
Meling | Marian | Cronin
Rasmussen | Joyce | Carol
Fidanque De Herrera | Emma | Marissa
Fedanque De Orillac | Myra | V
Mak | Kai-Kwong | Lawrence
Aitken | Adam | George Freeric
Lau | David |
Petersen | Jo-Ann |
Soo | Charmain | Sau Moy
Lee | Ryan | Cheuk Yeu
Vilagappara | Geetha |
Von Schilling | Andrea | E
Kim | Eric |
Gale | Timothy | John
Sin | Hendrick |
Goulandris | Basil | P
Bartlett | Shirley |
Calvert | Christine | Gabrielle
Lin | Susan | Shui-Shien
Garrow | Michael | P
Paduano | Rocco |
Vinge | Donald | Leslie
Madro | Walter | John
Kim | Ernest |
De Escoriaza | Sebastian |
Greco | Carmen | A
Madro | Karen | Kae
Storey | Eric | M
Watson | Lorraine | Elise
Wainright | Claire | W
Tommasi | Michele | Carlos
Smith | Thomas | Lee
Frangakis | Angela | Daphne
Moore | Vivien | Louise
Slater | Harvey | Lloyd
Vourecas-Petalas | Alexander |
Akhrass | Jameel |
Penman | Richard |
Ahn | Herin |
Seo | Daeso |
Meyer | Langtry | Nelson
Hernandez | Martir | Antonio Cadre
Villa | Mary | Kathleen
Standen | Frances | Pearl
Lee | Sosun | Kim

Dated: April 20, 2007.
Angie Kaminski,
Manager, Team 103, Examinations Operations, Philadelphia Compliance Services.

[FR Doc. E7-8924 Filed 5-9-07; 8:45 am]

BILLING CODE 4830-01-P